DEPARTMENT OF THE INTERIOR

Bureau of Indian Affairs

Indian Gaming

AGENCY: Bureau of Indian Affairs, Interior.

ACTION: Notice of Tribal-State Gaming Compact Amendments between the Forest County Potawatomi and the State of Wisconsin taking effect.

SUMMARY: Pursuant to Section 11 of the Indian Gaming Regulatory Act of 1988 (IGRA), Public Law 100-497, 25 U.S.C. 2710, the Secretary of the Interior shall publish, in the Federal Register, notice of approved Tribal-State Compacts for the purpose of engaging in Class III gaming activities on Indian lands. The Assistant Secretary—Indian Affairs, Department of the Interior, through her delegated authority, is publishing notice that the 2003 Amendments to the Tribal-State Compact for Class III gaming between the Forest County Potawatomi Community and the State of Wisconsin executed on February 19, 2003 are considered approved. By the terms of IGRA, the 2003 Amendments to the Compact are considered approved, but only to the extent the 2003 Amendments are consistent with the provisions of IGRA.

The 2003 Amendments expand the scope of gaming activities authorized under the Compact, remove limitations on wager limits, remove limitations on the number of permitted gaming devices, extend the term of the compact to an indefinite term, subject to re-opener clauses, institute an entirely new dispute resolution provision, replaces the sovereign immunity provision, and substantially modifies the revenue-sharing provision of the Compact.

EFFECTIVE DATE: May 8, 2003.

FOR FURTHER INFORMATION CONTACT: George T. Skibine, Director, Office of Indian Gaming Management, Bureau of Indian Affairs, Washington, DC 20240, (202) 219-4066.

Dated: April 30, 2003.
Aurene M. Martin,
Assistant Secretary—Indian Affairs.

[FR Doc. 03-11390 Filed 5-7-03; 8:45 am]

BILLING CODE 4310-4N-M